NATIONAL CREDIT UNION ADMINISTRATION

Agency Information Collection Activities: Submission to OMB for Reinstatement of a Previously Approved Information Collection; Comment Request

AGENCY: National Credit Union Administration (NCUA).

ACTION: Request for comment.

SUMMARY: The NCUA intends to submit the following information collection to the Office of Management and Budget (OMB) for review and clearance under the Paperwork Reduction Act of 1995. This information collection is published to obtain comments from the public.

DATES: Comments will be accepted until September 27, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating the collection for 3133-0108. Section 748.2 of NCUA's regulations, 12 CFR 748.2, directs credit unions to adopt a written program and to maintain procedures that ensure the credit union's continued compliance with the Bank Secrecy Act (BSA) (31 U.S.C. 5311-5330) and Department of Treasury's reporting and recordkeeping regulations (31 CFR part 1000). NCUA examiners review the programs to determine whether the credit union's procedures comply with the Bank Secrecy Act requirements. The requirement that credit unions establish written BSA compliance procedures is a one-time event, but revisions to those procedures must occur as deemed necessary.

NCUA examiners review the written procedures during examinations in order to ensure the implementation of adequate systems for complying with the BSA and its implementing regulations.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Proposal for the following collection of information:

OMB Number: 3133-0108.

Form Number: None.

Type of Review: Reinstatement of a previously approved collection.

Title: Monitoring Bank Secrecy Act Compliance.

Description: The collection is needed to allow NCUA to determine whether credit unions have established a program reasonably designed to assure and monitor their compliance with currency recordkeeping and reporting requirements established by Federal statute and Department of Treasury Regulations.

Respondents: Federally Insured Credit Unions.

Estimated Number of Respondents/Recordkeepers: 6,753.

Estimated Burden Hours per Response: 16 hours.

Frequency of Response: Annually.

Estimated Total Annual Burden Hours: 108,048.

Estimated Total Annual Cost: 0.

By the National Credit Union Administration Board on August 22, 2013.
Gerard Poliquin,
Secretary of the Board.

[FR Doc. 2013-20948 Filed 8-27-13; 8:45 am]

BILLING CODE 7535-01-P